DEPARTMENT OF JUSTICE

Antitrust Division

Notice Pursuant to the National Cooperative Research and Production Act of 1993—Border Security Technology Consortium

Notice is hereby given that, on June 8, 2017, pursuant to Section 6(a) of the National Cooperative Research and Production Act of 1993, 15 U.S.C. 4301 et seq. (“the Act”), Border Security Technology Consortium (“BSTC”) has filed written notifications simultaneously with the Attorney General and the Federal Trade Commission disclosing changes in its membership. The notifications were filed for the purpose of extending the Act's provisions limiting the recovery of antitrust plaintiffs to actual damages under specified circumstances. Specifically, AeroVironment, Inc., SimiValley, CA; AirRobot US, Inc., Arlington, VA; Applied Research Associates, Inc. (ARA), Albuquerque, NM; Aventura Technologies, Inc., Hauppauge, NY; C Speed, LLC, Liverpool, NY; Capgemini Government Solutions, LLC, Herndon, VA; CCSN, LLC, Guynabo, P.R.; Chartis Consulting Corporation, Falls Church, VA; Commdex Consulting, LLC, Norcross, GA; CONVERUS, Inc., Lehi, UT; Drone Co-Habitation Services, LLC, Herndon, VA; Elbit Systems of America, Inc., McLean, VA; EnZoo, Inc., Woodinville, WA; Exelis, Inc., Fort Wayne, IN; FLIR Detection, Inc., Arlington, VA; Georgia Tech Applied Research Corporation, Atlanta, GA; Guidepost Solutions, LLC, New York, NY; HiTech Systems, Inc., D.B.A. Pulsiam, Los Angeles, CA; ICF, Fairfax, VA; IEC Infrared Systems, Middleburg Heights, OH; Innovative Wireless Technologies, Lynchburg, VA; International Business Machines Corporation (IBM), Bethesda, MD; Leidos, Reston, VA; Logos Technologies, LLC, Fairfax, VA; Lukos, LLC, Tampa, FL; Michael Baker Jr., Inc., Phoenix, AZ; Polaris Sensor Technologies, Huntsville, AL; Pricewaterhouse Coopers (PwC), McLean, VA; Priority 5 Holdings, Inc., Needham, MA; Rajant, Malvern, PA; Red Team Defense Group, Spring Branch, TX; Rhombus Power, Inc., Moffett Field, CA; Salient Federal Solutions, Fairfax, VA; SRI International, Menlo Park, CA; Stark Aerospace, Arlington, VA; StrongWatch Corporation, Tucson, AZ; TigerSwan, Inc., Apex, NC; Toyon Research Corporation, Goleta, CA; Unmanned Experts, Inc., Denver, CO; Unmanned Solutions Technology, LLC, Beavercreek, OH; USTETA, Washington, DC; ViON Corporation, Herndon, VA; and XLA Associates, Springfield, VA, have been added as parties to this venture.

Also, ADDSS Incorporated, Tucson, AZ; Azos AI LLC, Haymarket, VA; Digital Barriers Services, LTD, London, UK; Hurley IR, Mount Airy, MD; ICS Consulting, LLC, Arlington, VA; ICx Tactical Platforms, Forest Park, GA; Morpho Detection, Newark, CA; Morpho Trak, Alexandria, VA; NAVISTAR, Lisle, IL; ProQual-I.T., Inc., Rockville, MD; Rapiscan Systems, Torrence, CA; Symetrica, Maynard, MA; University of Arizona, Tucson, AZ; and Whitney Bradley & Brown, Inc., Reston, VA, have withdrawn as parties to this venture.

No other changes have been made in either the membership or planned activity of the group research project. Membership in this group research project remains open, and BSTC intends to file additional written notifications disclosing all changes in membership.

On May 30, 2012, BSTC filed its original notification pursuant to Section 6(a) of the Act. The Department of Justice published a notice in the Federal Register pursuant to Section 6(b) of the Act on June 18, 2012 (77 FR 36292).

The last notification was filed with the Department on October 5, 2012. A notice was published in the Federal Register pursuant to section 6(b) of the Act on November 6, 2012 (77 FR 66635).

Patricia A. Brink,
Director of Civil Enforcement, Antitrust Division.

[FR Doc. 2017-15584 Filed 7-24-17; 8:45 am]

BILLING CODE P